DEPARTMENT OF VETERANS AFFAIRS

Research Advisory Committee On Gulf War Illnesses; Notice of Meeting

The Department of Veterans Affairs (VA) gives notice under Public Law 92-463 (Federal Advisory Committee Act) that the Research Advisory Committee on Gulf War Veterans' Illnesses will meet on June 16-17, 2003, at the Department of Veterans Affairs, 810 Vermont Avenue, NW., Room 230, Washington, DC. The meeting on June 16 will convene at 8:30 a.m. and adjourn at 5 p.m. The meeting on June 17 will convene at 8:30 a.m. and adjourn at 3:30 p.m. Both meetings will be open to the public.

The purpose of the Committee is to provide advice and make recommendations to the Secretary of Veterans Affairs on proposed research studies, research plans and research strategies relating to the health consequences of military service in the Southwest Asia theater of operations during the Persian Gulf War.

On June 16, the Committee will hear research presentations from representatives of the Midwest Research Institute, Lawrence Livermore National Laboratories and Lovelace Respiratory Research Institute. The Committee will also receive an update on VA research from the VA's Chief Research and Development Officer. On June 17, the Committee will hear presentations on and discuss new research and reports. The Committee plans to discuss and develop recommendations and a work plan. Time will be available for public comment on both days.

Members of the public may submit written statements for the Committee's review to Ms. Laura O'Shea, Committee Manager, Department of Veterans Affairs (008A1), 810 Vermont Avenue, NW., Washington, DC 20420. Any member of the public wishing further information should contact Ms. Laura O'Shea at (202) 273-5031.

Dated: May 7, 2003.
By Direction of the Secretary.
E. Philip Riggin,
Committee Management Officer.

[FR Doc. 03-12250 Filed 5-15-03; 8:45 am]

BILLING CODE 8320-01-M